ENVIRONMENTAL PROTECTION AGENCY

[FRL-7443-9]

Proposed Administrative Settlement Agreement Pursuant to the Comprehensive Environmental Response, Compensation, and Liability Act (CERCLA), as Amended by the Superfund Amendments and Reauthorization Act—Upper Tenmile Creek Watershed, Lewis and Clark County and Jefferson County, Montana

AGENCY: Environmental Protection Agency.

ACTION: Notice and request for public comment.

SUMMARY: Notice is hereby given of a proposed settlement under the Comprehensive Environmental Response, Compensation, and Liability Act, as amended (CERCLA), concerning the Upper Tenmile Creek Mining Area NPL site and Basin Mining Area NPL site in Lewis and Clark County and Jefferson County, Montana (Sites). The proposed prospective purchaser agreement with the State of Montana, acting by and through the Montana Department of Environmental Quality (MDEQ), would resolve any liability the State might incur when it acquires property which was previously part of the Basin Creek Mine from the Chapter 7 bankruptcy estates of Pegasus Gold Montana Mining, Inc. (PGMMI) and Pangea Explorations, Inc. (PEI). MDEQ would acquire the property through a settlement agreement with the bankruptcy trustee; the agreement is attached to the proposed prospective purchaser agreement.

EPA and the U.S. Department of Agriculture, Forest Service (Forest Service) intend to use a portion of the property, known as the Luttrell Pit mine waste repository, to implement CERCLA remedial actions at the Sites.

Parties to the Agreement include EPA, the Forest Service, MDEQ and the United States Department of Justice.

DATES: The public should submit comments to EPA relating to this proposed settlement on or before February 18, 2003.

ADDRESSES: The proposed settlement is available for public inspection at the EPA's Region VIII Superfund Records Center, 999 18th Street, 5th Floor, North Tower, Denver, Colorado, (303) 312-6473 and at EPA's Montana Superfund Records Center, Federal Office Building, 10 West 15th Street, Suite 3200, Helena, Montana, (406) 457-5046. Comments should be addressed to Carol J. Pokorny, Enforcement Specialist, (8ENF-T), U.S. Environmental Protection Agency, 999 18th Street, Suite 300, Denver, Colorado, 80202-2466, and should reference the Upper Tenmile Creek Mining Area and Basin Mining Area Sites Prospective Purchaser Agreement with the State of Montana.

FOR FURTHER INFORMATION CONTACT: Suzanne Bohan, Enforcement Attorney, at (303) 312-6925.

Dated: January 9, 2003.
Carol Rushin,
Assistant Regional Administrator, Office of Enforcement, Compliance and Environmental Justice.

[FR Doc. 03-1769 Filed 1-24-03; 8:45 am]

BILLING CODE 6460-50-M